DEPARTMENT OF TRANSPORTATION

Federal Aviation Administration

Notice Before Waiver With Respect to Land at Front Royal-Warren County Airport, Front Royal, VA

AGENCY: Federal Aviation Administration (FAA), DOT.

ACTION: Notice of intent of waiver with respect to land.

SUMMARY: The FAA is publishing notice of proposed release of 0.5924 acres of land at the Front Royal-Warren County Airport, Front Royal, Virginia to the Virginia Department of Transportation for the relocation of Virginia Route 615. There are no impacts to the Airport and the land is not needed for airport development as shown on the Airport Layout Plan. The road is being relocated to provide for a standard runway safety area and the existing Route 615 right-of-way will be exchanged for the relocated road right-of-way.

DATES: Comments must be received on or before January 23, 2004.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Mr. George W. Hodgkiss, Treasurer—Warren County Airport Commission, at the following address: Mr. David E. Labovitz, Treasurer—Warren County Airport Commission, 229 Stokes Airport Road, Front Royal, VA 22630.

FOR FURTHER INFORMATION CONTACT: Mr. Terry Page, Manager, Washington Airports District Office, 23723 Air Freight Lane, Suite 210, Dulles, VA 20166; telephone (703) 661-1354, fax (703) 661-1370, e-mail Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30-day public notice must be provided before the Secretary may waive any condition imposed on an interest in surplus property.

Issued in Chantilly, Virginia, on December 8, 2003.
Terry J. Page,
Manager, Washington Airports District Office, Eastern Region.

[FR Doc. 03-31749 Filed 12-23-03; 8:45 am]

BILLING CODE 4910-13-M